SECURITIES AND EXCHANGE COMMISSION

[Release No. 34-64731; File No. SR-NYSEArca-2011-39]

Self-Regulatory Organizations; NYSE Arca, Inc.; Notice of Filing and Immediate Effectiveness of Proposed Rule Change To Include Text in Its Options Rules Governing the Use of Its Affiliate Broker-Dealer, Archipelago Securities LLC for Outbound Routing of Option Orders, and To Adopt Text in Its Options Rules To Permit the Exchange To Receive Inbound Routes of Option Orders From Arca Securities, Acting as the Outbound Router for NYSE Amex LLC

June 23, 2011.

Pursuant to Section 19(b)(1) of the Securities Exchange Act of 1934 (“Act”) ¹ and Rule 19b-4 thereunder,² notice is hereby given that, on June 16, 2011, NYSE Arca, Inc. (the “Exchange” or “NYSE Arca”) filed with the Securities and Exchange Commission (the “Commission”) the proposed rule change as described in Items I and II below, which Items have been prepared by NYSE Arca. The Commission is publishing this notice to solicit comments on the proposed rule change from interested persons.

¹ 15 U.S.C. 78s(b)(1).

² 17 CFR 240.19b-4.

I. Self-Regulatory Organization's Statement of the Terms of Substance of the Proposed Rule Change

The Exchange proposes (1) To include text in its options rules governing the use of its affiliate broker-dealer, Archipelago Securities LLC (“Arca Securities”), for outbound routing of option orders, and (2) to adopt text in its options rules to permit the Exchange to receive inbound routes of option orders from Arca Securities, acting as the outbound router for NYSE Amex LLC (“NYSE Amex”). The text of the proposed rule change is available at the Exchange's principal office, at http://www.nyse.com, at the Commission's Public Reference Room, and at the Commission's Web site at http://www.sec.gov.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes to include text in its options rules governing the use of Arca Securities for outbound routing of option orders, and to adopt text in its options rules to permit the Exchange to receive inbound routes of option orders from Arca Securities when it is acting as the outbound router for NYSE Amex.³ The Exchange notes that it currently uses third-party broker-dealers to route orders to other options exchanges and to have orders routed to it from other options exchanges, including NYSE Amex. In an effort to provide more clarity regarding the functions of Arca Securities and to provide NYSE Arca with the flexibility to use Arca Securities as an outbound and inbound routing broker in the future, the Exchange is filing this proposed rule change.

³ The Exchange's affiliate, NYSE Amex, is proposing a substantially similar rule change. See SR-NYSEAmex-2011-40.

Background—Authority To Use Arca Securities as Routing Broker

NYSE Arca currently has the authority to use Arca Securities as an outbound router to send option orders to an away market center for execution whenever such routing is required by Exchange Rules and Federal securities laws.⁴ As noted above, however, the Exchange does not currently use Arca Securities for this function. The terms of the outbound option order routing function of Arca Securities generally are as follows:

⁴ See Securities Exchange Act Release No. 54238 (July 28, 2006), 71 FR 44758 (August 7, 2006) (SR-NYSEArca-2006-13). The terms of the outbound options order routing function for the Exchange are generally set forth in the Commission's approval orders, rather than rule text.

Arca Securities operates and is regulated as a facility of the Exchange, subject to and consistent with Section 6 of the Securities Exchange Act of 1934 (“Act”).

A self-regulatory organization (“SRO”) unaffiliated with the Exchange or any of its affiliates (currently the Financial Industry Regulatory Authority or “FINRA”), carries out oversight and enforcement responsibilities as the Designated Examining Authority (“DEA”) designated by the Commission pursuant to Rule 17d-1 of the Act with the responsibility for examining Arca Securities for compliance with the applicable financial responsibility rules.

The agreement between the Exchange and FINRA pursuant to Rule 17d-2 under the Act allocates to FINRA the responsibility to receive regulatory reports from Arca Securities, to examine Arca Securities for compliance and to enforce compliance by Arca Securities with the Act, the rules and regulations thereunder and FINRA rules, and to carry out other specified regulatory functions with respect to Arca Securities.

The operation of Arca Securities as a facility of the Exchange providing outbound routing services is subject to Exchange and Commission oversight and the Exchange must file with the Commission rule changes relating to Arca Securities' order routing function.

Proposed Rule Change

The Exchange proposes to include text in its options rules governing the use of Arca Securities for outbound and inbound routing of option orders.⁵ In particular, the Exchange proposes to replace the definition of “OX Routing Broker” found in Rule 6.1A(a)(15) with the definition currently proposed for the defined term “Routing Broker” within NYSE Arca Equities Rule 7.41. This change is designed to provide consistency with respect to rules related to the routing function on the Exchange for equity and option orders.

⁵ The Exchange notes that the outbound routing function of Arca Securities is only available with respect to orders of OTP Holders.

In addition, the Exchange proposes to adopt in Exchange Rule 6.96(b) [sic] rule text governing the outbound routing function for option orders.⁶ This change would set forth in the options rules the conditions for using Arca Securities as the outbound routing broker for option orders for the Exchange.

⁶ This proposed rule text is substantially the same as is proposed for outbound equity order routing on the Exchange and, except for certain recently-proposed changes, substantially the same as is currently reflected in Rule 17(c)—NYSE Amex Equities.

In addition, the Exchange currently does not have the authority to receive routes of option orders from Arca Securities on behalf of the Exchange's affiliate NYSE Amex.⁷ In order to address concern that the Commission has previously expressed regarding the potential for conflicts of interest in instances where a member firm is affiliated with an exchange to which it is routing orders, the Exchange hereby proposes to accept inbound option orders that its affiliate, Arca Securities, routes in its capacity as a facility of NYSE Amex, subject to the following limitations and conditions and as reflected in proposed Rule 6.96(b): ⁸

⁷ NYSE Amex has previously represented that if Arca Securities were to route option orders directly from NYSE Amex to an affiliated market that it would do so only after the affiliated market had rules approved that authorize it to receive such routed option orders from its broker-dealer affiliate. See Securities Exchange Act Release No. 59473 (February 27, 2009), 74 FR 9853 (March 6, 2009) (SR-NYSEALTR-2009-18) at note 8.

⁸ The Exchange notes that the limitations and conditions proposed herein would be substantially the same as those applicable to the Exchange's current pilot program to accept routes of inbound equity orders by Arca Securities, on behalf of the Exchange's affiliates NYSE Amex and New York Stock Exchange, LLC (“NYSE”). See Securities Exchange Act Release No. 58681 (September 29, 2008), 73 FR 58285 (October 6, 2008) (SR-NYSEArca-2008-90). See also Securities Exchange Act Release No. 59010 (November 24, 2008), 73 FR 73373 (December 2, 2008) (SR-NYSEArca-2008-130). The Exchange notes that it has proposed specific rule text for this inbound equity routing functionality, the terms of which are currently generally set forth in the Commission's approval orders, rather than rule text, and have already been approved in substance by the Commission for the Exchange.

• First, the Exchange will (1) Maintain an agreement pursuant to Rule 17d-2 under the Exchange Act with a non-affiliated SRO (presently the Financial Industry Regulatory Authority (“FINRA”)) to relieve the Exchange of regulatory responsibilities for Arca Securities with respect to rules that are common rules between the Exchange and the non-affiliated SRO, and (2) maintain a regulatory services agreement with a non-affiliated SRO (presently FINRA) to perform regulatory responsibilities for Arca Securities for unique Exchange rules.⁹

⁹ The Exchange notes that FINRA reviews both inbound and outbound routing via Arca Securities pursuant to an existing 17d-2 agreement and an existing regulatory services agreement. The Exchange will review the terms of the regulatory services agreement in connection with this proposed rule change, and will amend it to reflect the specific terms of this filing.

• Second, the regulatory services agreement discussed above will require the Exchange to provide the non-affiliated SRO with information, in an easily accessible manner, regarding all exception reports, alerts, complaints, trading errors, cancellations, investigations, and enforcement matters (collectively “Exceptions”) in which Arca Securities is identified as a participant that has potentially violated Exchange or SEC Rules and of which the Exchange becomes aware, and shall require that the non-affiliated SRO provide a report, at least quarterly, to the Exchange quantifying all Exceptions in which Arca Securities is identified as a participant that has potentially violated Exchange or SEC Rules.

• Third, the Exchange, on behalf of the holding company owning both the Exchange and Arca Securities, will establish and maintain procedures and internal controls reasonably designed to prevent Arca Securities from receiving any benefit, taking any action or engaging in any activity based on non-public information regarding planned changes to Exchange systems, obtained as a result of its affiliation with the Exchange, until such information is available generally to similarly situated OTP Holders in connection with the provision of inbound order routing to the Exchange.

• Fourth, the Exchange may furnish to Arca Securities the same information on the same terms that the Exchange makes available in the normal course of business to any other OTP Holder.

• Fifth, the inbound routing functionality would operate pursuant to a pilot program that would end on September 30, 2011.

The proposed text within Rule 6.96(b) corresponding to these limitations and conditions would be substantially the same as the language set forth in the Commission orders applicable to the Exchange, as described above, and virtually identical to the inbound router rule text already implemented for another exchange.¹⁰ The Exchange proposes that the operation of the inbound routing function would cover all types of option orders approved for use on NYSE Amex.

¹⁰ See BATS Rule 2.12. See also Securities Exchange Act Release No. 62901 (September 13, 2010), 75 FR 57097 (September 17, 2010) (SR-BATS-2010-024).

2. Statutory Basis

The proposed rule change is consistent with Section 6(b) ¹¹ of the Act, in general, and furthers the objectives of Section 6(b)(5),¹² in particular, in that it is designed to prevent fraudulent and manipulative acts and practices, to promote just and equitable principles of trade, to foster cooperation and coordination with persons engaged in facilitating transactions in securities, to remove impediments to and perfect the mechanism of a free and open market and a national market system and, in general, to protect investors and the public interest. The Exchange believes that the proposed rule change, which in part would add specific rule text for routing functionality that has already been approved in substance by the Commission for the Exchange, would enhance the clarity and transparency surrounding such functionality, including the responsibilities and obligations attendant therewith, while also reflecting the Exchange's ongoing efforts to effectively address the concerns previously identified by the Commission regarding the potential for informational advantages favoring Arca Securities vis-à-vis other non-affiliated Exchange OTP Holders. The Exchange also believes that the proposed rule change would support the principles of Section 11A(a)(1) of the Act ¹³ in that it seeks to assure economically efficient execution of securities transactions.

¹¹ 15 U.S.C. 78f(b).

¹² 15 U.S.C. 78f(b)(5).

¹³ 15 U.S.C. 78k-1(a)(1).

Additionally, the Exchange believes that the proposal to permit the Exchange to receive inbound routes of option orders from Arca Securities, acting as the outbound router for NYSE Amex, is consistent with previous Commission orders authorizing the Exchange to receive inbound routes of equity orders from Arca Securities on behalf of the Exchange's affiliate exchanges, NYSE and NYSE Amex. Furthermore, by including rule text governing both outbound and inbound routing in proposed Rule 6.96, the Exchange would establish a single, central location in its Rules describing all option order routing broker functions. Additionally, the proposed amendments to align the definition of Routing Broker in the Exchange's equity and option rules would result in greater consistency in defined terms on the Exchange.

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants, or Others

No written comments were solicited or received with respect to the proposed rule change.

III. Date of Effectiveness of the Proposed Rule Change and Timing for Commission Action

Because the proposed rule change: (i) Does not significantly affect the protection of investors or the public interest; (ii) does not impose any significant burden on competition; and (iii) does not become operative for 30 days after the date of the filing, or such shorter time as the Commission may designate if consistent with the protection of investors and the public interest, the proposed rule change has become effective pursuant to Section 19(b)(3)(A) of the Act ¹⁴ and Rule 19b-4(f)(6) thereunder.¹⁵

¹⁴ 15 U.S.C. 78s(b)(3)(A).

¹⁵ 17 CFR 240.19b-4(f)(6).

A proposed rule change filed under 19b-4(f)(6) normally may not become operative prior to 30 days after the date of filing.¹⁶ However, Rule 19b-4(f)(6)(iii) ¹⁷ permits the Commission to designate a shorter time if such action is consistent with the protection of investors and the public interest. The Exchange requests that the Commission waive the 30-day operative delay. The Exchange believes that waiver of the 30-day operative delay would provide more clarity and transparency in its rule text concerning all of the functions that Arca Securities performs on behalf of the Exchange without undue delay. In addition, the Exchange notes that the proposal is consistent with the rules of another national securities exchange. For these reason, the Commission believes that waiving the 30-day operative delay is consistent with the protection of investors and the public interest, and designates the proposed rule change to be operative upon filing with the Commission.¹⁸

¹⁶ 17 CFR 240.19b-4(f)(6)(iii). In addition, Rule 19b-4(f)(6)(iii) requires that a self-regulatory organization submit to the Commission written notice of its intent to file the proposed rule change, along with a brief description and text of the proposed rule change, at least five business days prior to the date of filing of the proposed rule change, or such shorter time as designated by the Commission. The Exchange has satisfied this requirement.

¹⁷ Id.

¹⁸ For purposes only of waiving the 30-day operative delay, the Commission has considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEArca-2011-39 on the subject line.

Paper Comments

• Send paper comments in triplicate to Elizabeth M. Murphy, Secretary, Securities and Exchange Commission, 100 F Street, NE., Washington, DC 20549-1090.

All submissions should refer to File Number SR-NYSEArca-2011-39. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street, NE., Washington, DC 20549, on official business days between the hours of 10 a.m. and 3 p.m. Copies of the filing also will be available for inspection and copying at the principal office of the Exchange. All comments received will be posted without change; the Commission does not edit personal identifying information from submissions. You should submit only information that you wish to make available publicly. All submissions should refer to File Number SR-NYSEArca-2011-39 and should be submitted on or before July 20, 2011.

For the Commission, by the Division of Trading and Markets, pursuant to delegated authority.¹⁹
¹⁹ 17 CFR 200.30-3(a)(12).
Cathy H. Ahn,
Deputy Secretary.

[FR Doc. 2011-16227 Filed 6-28-11; 8:45 am]

BILLING CODE 8011-01-P